DEPARTMENT OF TRANSPORTATION

Pipeline and Hazardous Materials Safety Administration

[Docket No. PHMSA-2018-0050]

Pipeline Safety: Gas and Hazardous Liquid Pipeline Risk Models

AGENCY: Pipeline and Hazardous Materials Safety Administration (PHMSA); DOT.

ACTION: Notice and request for comments; extension of comment period.

SUMMARY: PHMSA published a notice in the Federal Register to seek public comments on a report developed to support improvements in gas and hazardous liquid pipeline risk models titled “Pipeline Risk Modeling—Overview of Methods and Tools for Improved Implementation” (Pipeline Risk Modeling Report). PHMSA has received a request to extend the comment period to allow stakeholders more time to evaluate the notice. PHMSA has concurred with this request and has extended the comment period for an additional 30 days.

DATES: The closing date for filing comments on the notice published August 16, 2018, (83 FR 40843) is extended from September 17, 2018, to October 17, 2018.

ADDRESSES: Comments should reference Docket No. PHMSA-2018-0050 and may be submitted in the following ways:

E-Gov Website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number, PHMSA-2018-0050, at the beginning of your comments. Note that all comments received will be posted without change to http://www.regulations.gov, including any personal information provided. You should know that anyone is able to search the electronic form of all comments received into any of our dockets by the name of the individual submitting the comment (or signing the comment, if submitted on behalf of an association, business, labor union, etc.).

Docket: For access to the docket or to read background documents or comments, go to http://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on PHMSA-2018-0050.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Note: Privacy Act Statement: DOT may solicit comments from the public regarding certain general notices. DOT posts these comments, without edit, including any personal information the commenter provides, to www.regulations.gov, as described in the system of records notice (DOT/ALL-14 FDMS), which can be reviewed at www.dot.gov/privacy.

FOR FURTHER INFORMATION CONTACT: For further information contact Mr. Steve Nanney, Project Manager, PHMSA, by telephone at 713-272-2855, or by email at Steve.Nanney@dot.gov.

SUPPLEMENTARY INFORMATION: On August 16, 2018, (83 FR 40843) PHMSA published a notice to seek public comments on a report developed to support improvements in gas and hazardous liquid pipeline risk models. Based on the results of pipeline inspections and failure investigation findings, both PHMSA and the National Transportation Safety Board have identified general weaknesses in the risk models often used by pipeline operators in performing risk assessments for their integrity management programs. The Pipeline Risk Modeling Report considers the major types of pipeline risk models, and the effectiveness of each type in supporting risk assessments, as applied to pipeline operator decisions.

In an August 15, 2018, letter to PHMSA, the American Gas Association, the American Petroleum Institute, the American Public Gas Association, the Association of Oil Pipe Lines, and the Interstate Natural Gas Association of America requested a 30-day extension of the comment deadline to allow them and other interested stakeholders plan their review of the notice.

PHMSA has concurred with the Associations' request and has extended the comment period as shown in the DATES section of this notice. This extension will provide sufficient additional time for commenters to submit their comments.

Issued in Washington, DC, on August 24, 2018, under authority delegated in 49 CFR 1.97.
Linda Daugherty,
Deputy Associate Administrator for Field Operations.

[FR Doc. 2018-18770 Filed 8-29-18; 8:45 am]

BILLING CODE 4910-60-P